FEDERAL ELECTION COMMISSION

Sunshine Act Meetings

AGENCY: Federal Election Commission

DATE AND TIME: Thursday, September 17, 2015 at 10:00 a.m.

PLACE: 999 E Street NW., Washington, DC (Ninth Floor).

STATUS: This meeting will be open to the public.

ITEMS TO BE DISCUSSED:

Correction and Approval of Minutes for August 11, 2015

Draft Advisory Opinion 2015-03: Democracy Rules, Inc.

Draft Advisory Opinion 2015-06: Representative Maxine Waters

Audit Division Recommendation Memorandum on the Committee for Charlotte/Charlotte DNC Host Committee (CFC)

Commission Documents Public Disclosure Policies

Proposed Directive 74 on the Timely Resolution of Enforcement Matters

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shelley E. Garr,
Deputy Secretary of the Commission.

[FR Doc. 2015-23145 Filed 9-10-15; 4:15 pm]

BILLING CODE 6715-01-P